DEPARTMENT OF THE INTERIOR

National Park Service

[NPS-WASO-NRNHL-15335; PPWOCRADI0, PCU00RP14.R50000]

National Register of Historic Places; Notification of Pending Nominations and Related Actions

Nominations for the following properties being considered for listing or related actions in the National Register were received by the National Park Service before March 15, 2014. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by April 22, 2014. Before including your address, phone number, email address, or other personal identifying information in your comment, you should be aware that your entire comment—including your personal identifying information—may be made publicly available at any time. While you can ask us in your comment to withhold your personal identifying information from public review, we cannot guarantee that we will be able to do so.

Dated: March 20, 2014.
J. Paul Loether,
Chief, National Register of Historic Places/National Historic Landmarks Program.

COLORADO

Adams County

Engelbrecht Farm, 2024 Strasburg Rd., Strasburg, 14000170

CONNECTICUT

Fairfield County

River Road—Mead Avenue Historic District, Roughly along Mead Ave. & River Rd., Greenwich, 14000171

FLORIDA

Alachua County

Hawthorne Cemetery, FL 20, Hawthorne, 14000172

GEORGIA

Muscogee County

Swift Manufacturing Company, 1410 6th Ave., Columbus, 14000173

IOWA

Bremer County

Waverly East Bremer Avenue Commercial Historic District (Iowa's Main Street Commercial Architecture MPS), Roughly E. Bremer Ave., Waverly, 14000174

Linn County

Cedar Rapids Central Fire Station, 427 1st St., SE., Cedar Rapids, 14000175

MASSACHUSETTS

Bristol County

Oak Grove Cemetery, Parker St., New Bedford, 14000176

Rural Cemetery and Friends Cemetery, 149 Dartmouth St., New Bedford, 14000177

NEBRASKA

Douglas County

Minne Lusa Residential Historic District, Roughly bounded by Redick Ave., Vane, N. 30th & N. 24th Sts., Omaha, 14000178

OREGON

Clackamas County

McLoughlin Promenade (Commercial & Institutional Properties in the Downtown & McLoughlin Areas of Oregon City MPS), Roughly along Singer Hill west of High St., Oregon City, 14000179

Oregon City Carnegie Library (Commercial & Institutional Properties in the Downtown & McLoughlin Areas of Oregon City MPS), 606 John Adams St., Oregon City, 14000180

Oregon City Municipal Elevator (Commercial & Institutional Properties in the Downtown & McLoughlin Areas of Oregon City MPS), 610 Bluff St., Oregon City, 14000181

PENNSYLVANIA

Berks County

Curtis and Jones Company Shoe Factory, 702 N. 8th St., Reading, 14000182

Old Main at the Lutheran Home at Topton, 1 S. Home Ave., Longswamp Township, 14000183

Philadelphia County

Happy Hollow Recreation Center, 4740 Wayne Ave., Philadelphia, 14000184

TENNESSEE

Knox County

Happy Holler Historic District (Knoxville and Knox County MPS), 1200-1209, 1211 N, Central St., 103,105 E. Anderson & 109, 115 W. Anderson Aves., Knoxville, 14000185

A request for removal has been made for the following properties:

NORTH CAROLINA

Wake County

Merrimon House, 526 N. Wilmington St., Raleigh, 75001296

Pugh House, 10018 Chapel Hill Rd., Morrisville, 03000932

WYOMING

Teton County

Leek's Lodge, 10 mi. NW of Moran in Grand Teton National Park off U.S. 89/287, Moran, 75000216

[FR Doc. 2014-07631 Filed 4-4-14; 8:45 am]

BILLING CODE 4312-51-P